DEPARTMENT OF ENERGY

Federal Energy Regulatory Commission

[Docket Nos. RM01-12-000 and RT01-95-000]

Remedying Undue Discrimination Through Open Access Transmission Service and Standard Electricity Market Design, New York Independent System Operator, Inc. ; Notice of Technical Conference

October 1, 2003.

As announced in the Notice of Technical Conference issued on August 15, 2003, a technical conference will be held on October 20, 2003, to discuss with state regulators and market participants the timetables for addressing wholesale power market design issues and to explore ways to provide flexibility the region may need to meet the requirements of the final rule in this proceeding. Members of the Commission will attend and participate in the discussion.

The conference will focus on the issues identified in the agenda, which is appended to this notice as Attachment A. However, participants/stakeholders may present their views on other important issues that relate to the development of the Wholesale Power Market Platform.

The conference will begin at 1 p.m. Eastern Time and will adjourn at about 5 p.m. Eastern Time at the offices of Consolidated Edison Company, 4 Irving Place, 19th floor auditorium, New York City, New York. The conference is open for the public to attend. Please note: to accommodate security regulations for the Consolidated Edison building, we are asking all attendees to preregister for the conference by close of business on Thursday, October 16 on-line at http://www.ferc.gov/whats-new/registration/smd_1020-form.asp.

Transcripts of the conference will be immediately available from Ace Reporting Company (202-347-3700 or 1-800-336-6646) for a fee. They will be available for the public on the Commission's eLibrary seven calendar days after FERC receives the transcript. Additionally, Capitol Connection offers the opportunity to remotely listen to the conference via the Internet or a Phone Bridge Connection for a fee. Interested persons should make arrangements as soon as possible by visiting the Capitol Connection Web site at http://www.capitolconnection.gmu.edu and clicking on “FERC.” If you have any questions contact David Reininger or Julia Morelli at the Capitol Connection (703-993-3100).

For more information about the conference, please contact Sarah McKinley at (202) 502-8004 or sarah.mckinley@ferc.gov.

Magalie R. Salas,
Secretary.

Appendix A—Agenda

1-1:20 p.m. Opening Remarks

Pat Wood, III, Chairman, Federal Energy Regulatory Commission

William Flynn, Chairman, New York Public Service Commission

Joe Oates, Consolidated Edison, Chairman, Management Committee, New York ISO

1:20-1:30 p.m. Summary of NYISO Issues

William J. Museler, President and CEO, New York ISO

1:30-2:15 p.m. Panel I Discussion:

Transmission Planning and Incentives for Infrastructure Development

Generator Owners:

• Glenn Haake, General Counsel, Independent Power Producers of New York Inc.

Public Power/Environment:

• Jim Parmelee, Director, Long Island Power Authority End Use Consumers:

• Mike Mager, Counsel, Couch White LLP, representing Multiple Intervenors

Transmission Owners:

• Masheed Rosenqvist, Vice President—Director Transmission Regulation and Policy U.S., National Grid

• Stuart Nachmias, Project Manager, Consolidated Edison Company of New York, Inc.

Other Suppliers:

• Matt Picardi, General Manager—Regulatory Affairs, Coral Power LLC

2:15-3 p.m. Panel II Discussion:

Pancaked Transmission Rates and Seams Issues

Generator Owners:

• Mark Younger, Vice President, Slater Consulting, representing Indeck and Fortistar

• William Roberts, Senior Counsel, Edison Mission Marketing & Trading, Inc.

Public Power/Environment:

• Tom Rudebusch, Counsel, Duncan Weinberg Genzer & Pembroke, representing City of Jamestown Public Utilities

End Use Consumers:

• Tariq Niazi, Chief Economist, New York State Consumer Protection Board

Transmission Owners:

• Ray Kinney, Project Manager, New York State Electric & Gas

Other Suppliers:

• Peter Brown, Brown Olson & Wilson P.C., representing Aquila

3-3:15 p.m. Break

3:15-4 p.m. Panel III Discussion: Regional Decision-making:

NYISO Governance and State/Regional Committees

Generator Owners:

• Susann Felton, Director, Regulatory Affairs, Mirant Americas Energy Marketing LP

Public Power/Environment:

• Bob Hiney, Executive Vice President, Power Generation, New York Power Authority

End Use Consumers:

• Mike Delaney, Energy Policy Advocate, City of New York

Transmission Owners:

• Paul Gioia, Counsel, LeBoeuf Lamb Greene & MacRae LLP

Other Suppliers:

• Dan Allegretti, Vice President, Regulatory Origination, Constellation

4-5 p.m. Discussion with Regulators and Industry Representatives

[FR Doc. E3-00004 Filed 10-6-03; 8:45 am]

BILLING CODE 6717-01-P